COMMITTEE FOR PURCHASE FROM PEOPLE WHO ARE BLIND OR SEVERELY DISABLED

Procurement List Additions and Deletion

AGENCY: Committee for Purchase From People Who Are Blind or Severely Disabled.

ACTION: Additions to and deletion from Procurement List.

SUMMARY: This action adds to the Procurement List a product and services to be furnished by nonprofit agencies employing persons who are blind or have other severe disabilities, and deletes from the Procurement List a product previously furnished by such agencies.

DATES: Effective Date: August 27, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On May 26, 2006 and June 2, 2006, the Committee for Purchase From People Who Are Blind or Severely Disabled published notices (71 FR 30377 and 32030) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the products and services to the Government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: Fluorescent Highlighter.

7520-01-238-0978—Blue.

7520-01-238-0979—Green.

NPA: Winston-Salem Industries for the Blind, Winston-Salem, NC.

Contracting Activity: Office Supplies & Paper Products Acquisition Center, New York, NY.

Services

Service Type/Location: Custodial Services, GSA, PBS, Region 6, 1114 Market Street, St. Louis, Missouri.

NPA: MGI Services Corporation, St. Louis, Missouri.

Contracting Activity: GSA, PBS—Region 6, Kansas City, Missouri.

Service Type/Location: Laundry Service, 21st Medical Group (Medical Clinic), Peterson AFB, Colorado, Area Dental Laboratory (ADL), Peterson Air Force Base, Colorado, Schriever Troop Clinic, Schriever Air Force Base, Colorado.

NPA: Goodwill Industrial Services Corporation, Colorado Springs, Colorado.

Contracting Activity: Headquarters, Air Force Space Command, Peterson AFB, Colorado.

Service Type/Location: Pest Control, Healthy Beginnings Child Development Center, 5610 Fishers Lane, Rockville, Maryland. Parklawn Building, 5600 Fishers Lane, Rockville, Maryland.

NPA: Davis Memorial Goodwill Industries, Washington, DC.

Contracting Activity: Department of Health and Human Services, Rockville, Maryland.

Deletion

On May 26, 2006, the Committee for Purchase From People Who Are Blind or Severely Disabled published notice (70 FR 30377) of proposed deletion to the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the product deleted from the Procurement List.

End of Certification

Accordingly, the following product is deleted from the Procurement List:

Product

Product/NSN: Accustamp.

7520-01-207-4213—OFFICIAL—Red.

NPA: The Arbor School, Houston, Texas.

Contracting Activity: Office Supplies & Paper Products Acquisition Center, New York, NY.

Sheryl D. Kennerly,
Director, Information Management.

[FR Doc. E6-12103 Filed 7-27-06; 8:45 am]

BILLING CODE 6353-01-P